FEDERAL COMMUNICATIONS COMMISSION

Notice of Public Information Collection(s) Being Submitted for Review to the Office of Management and Budget

November 13, 2006.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before November 22, 2006. If you anticipate that you will be submitting PRA comments, but find it difficult to do so within the period of time allowed by this notice, you should advise the contact listed below as soon as possible.

ADDRESSES: Direct all Paperwork Reduction Act (PRA) comments to Judith B. Herman, Federal Communications Commission, Room 1-B441, 445 12th Street, SW., DC 20554 or via the Internet to PRA@fcc.gov. If you would like to obtain or view a copy of this information collection, you may do so by visiting the FCC PRA Web page at: http://www.fcc.gov/omd/pra.

FOR FURTHER INFORMATION CONTACT: For additional information or copies of the information collection(s), send an e-mail to PRA@fcc.gov or contact Judith B. Herman at 202-418-0214.

SUPPLEMENTARY INFORMATION: OMB Control No.: 3060-XXXX.

Title: Prepaid Calling Card Service Provider Certification, WC Docket No. 05-68.

Form No.: N/A.

Type of Review: New collection.

Respondents: Business or other for-profit.

Number of Respondents: 787 respondents; 3,148 responses.

Estimated Time Per Response: 25 hours (20 hours for the reporting to carriers and five hours for the certification to the Commission).

Frequency of Response: Quarterly reporting requirement, recordkeeping requirement and third party disclosure requirement.

Nature of Response: Mandatory.

Total Annual Burden: 3,148 hours.

Total Annual Cost: N/A.

Privacy Act Impact Assessment: N/A.

Needs and Uses: This collection will be submitted as a new collection to the Office of Management and Budget (OMB) in order to obtain the full three year clearance.

The Commission is requesting review and approval of a new information collection requiring prepaid calling card providers to report quarterly the percentage of interstate, intrastate and international traffic and call volumes to carriers from which they purchase transport services. Prepaid calling card providers must also file quarterly certifications with the Commission that include the above information and a statement that they are contributing to the federal Universal Service Fund (USF) based on all interstate and international revenue, except for revenue from the sale of prepaid calling cards by, to, or pursuant to contract with the Department of Defense (DoD) or a DoD entity.

The Commission has found that prepaid calling card providers are telecommunications service providers and therefore are subject to all of the regulations imposed on telecommunications service providers, including contributing to the USF. See FCC 06-79, WC Docket No. 05-68.

The Commission adopted new reporting and certification requirements to obtain information necessary to evaluate whether all prepaid calling card providers are properly contributing to the USF, pursuant to section 254 of the Telecommunications Act of 1996. All prepaid calling card providers will now have to maintain records and report on a quarterly basis, the percentage of interstate, intrastate and international traffic and call volumes to carriers from which they purchase transport services. The Commission believes that its reporting and certification requirements will not be burdensome for prepaid calling card providers, as they need to track such information for their own internal business purposes.

OMB Control No.: 3060-0743.

Title: Implementation of the Pay Telephone Reclassification and Compensation Provisions of the Telecommunications Act of 1996, CC Docket No. 96-128.

Form No.: N/A.

Type of Review: Extension of a currently approved collection.

Respondents: Business or other for-profit.

Number of Respondents: 4,471 respondents; 10,071 responses.

Estimated Time Per Response: .50-100 hours.

Frequency of Response: On occasion, quarterly and monthly reporting requirements, recordkeeping requirement and third party disclosure requirement.

Nature of Response: Mandatory.

Total Annual Burden: 161,337 hours.

Total Annual Cost: N/A.

Privacy Act Impact Assessment: N/A.

Needs and Uses: This collection will be submitted as an extension of a currently approved collection to the Office of Management and Budget (OMB) in order to obtain the full three year clearance.

The Commission promulgated rules and reporting requirements implementing section 276 of the Telecommunications Act of 1996. Among other things, the rules: (1) Establish fair compensation for every completed intrastate and interstate payphone calls; (2) discontinue intrastate and interstate access charge payphone service elements and payments, and intrastate and interstate payphone subsidies from basic exchange services; and (3) adopt guidelines for use by the states in establishing public interest payphones to be located where there would otherwise not be a payphone. The information collected is provided to third parties and to ensure that interexchange carriers, payphone service providers (“PSP”) LECs, and the states comply with their obligations under the 1996 Act.

OMB Control No.: 3060-0745.

Title: Implementation of the Local Exchange Carrier Tariff Streamlining Provisions in the Telecommunications Act of 1996, CC Docket No. 96-187.

Form No.: N/A.

Type of Review: Extension of a currently approved collection.

Respondents: Business or other for-profit.

Number of Respondents: 67 respondents; 159 responses.

Estimated Time Per Response: 1-55.9 hours.

Frequency of Response: On occasion reporting requirement, recordkeeping requirement and third party disclosure requirement.

Nature of Response: Mandatory.

Total Annual Burden: 4,028 hours.

Total Annual Cost: $775,000.

Privacy Act Impact Assessment: N/A.

Needs and Uses: This collection will be submitted as an extension (no change in reporting, recordkeeping or third party disclosure requirements) to the Office of Management and Budget (OMB) in order to obtain the full three year clearance.

In CC Docket No. 96-187, the Commission adopted measures to streamline tariff filing requirements for local exchange carriers (LECs) of the Telecommunications Act of 1996. In order to achieve a streamlined and deregulatory environment for LEC tariff filings, LECs are required to file tariffs electronically. Other carriers are permitted to file their tariffs electronically. There are six information collection requirements under this OMB Control Number. They are: (1) Electronic filing requirement; (2) requirement that carriers desiring tariffs proposing decreases to be effective in seven days must be filed in separate transmittals; (3) requirement that carriers identify transmittals filed pursuant to the streamlined provisions of the Telecommunications Act of 1996; (4) requirement that price cap LECs file their Tariff Review Plans (TRPs) prior to filing their annual access tariffs; (5) petitions and replies; and (6) standard protective orders.

The information collected under the program of electronic filing will facilitate access to tariff and associated documents by the public, especially by interested persons who do not have ready access to the Commission's public reference room, and state and federal regulators. Ready electronic access to carrier tariffs should also facilitate the compilation of aggregate data for industry analysis purposes without imposing new reporting requirements on carriers. The Commission adopted its proposal to require that carriers desiring tariffs proposing rate decreases to be effective in seven days must be filed in a separate transmittal. This requirement will ensure that a tariff filing proposing a rate decrease is given the shortest notice period possible under the 1996 Act. The Commission also adopted the requirement that carriers identify transmittals filed pursuant to the streamlining provisions of the Telecommunications Act of 1996. All of the requirements would be used to ensure that LECs comply with their obligations under the Communications Act of 1934, as amended and that the Commission be able to ensure compliance within the streamlined timeframes established by the 1996 Act.

Federal Communications Commission.
Marlene H. Dortch,
Secretary.

[FR Doc. E6-19465 Filed 11-21-06; 8:45 am]

BILLING CODE 6712-01-P